ENVIRONMENTAL PROTECTION AGENCY

[OPPT-2003-0034; FRL-7318-3]

Draft Instructions for Reporting for the 2006 Partial Updating of the TSCA Chemical Inventory Database; Request for Comment; Notice of Public Meeting

AGENCY: Environmental Protection Agency (EPA).

ACTION: Notice.

SUMMARY: EPA is convening a focus group to receive comments from persons reporting data required by the Inventory Update Rule on the draft instructions for reporting in 2006. The instructions have been revised in response to amendments to 40 CFR part 710 promulgated on January 7, 2003, which substantially modify the information which must be reported for the partial updating of the TSCA Chemical Inventory Database beginning in 2006. The meeting of the focus group is open to the public.

DATES: The focus group meeting will be held on Friday, August 1, 2003, from 9 a.m to approximately 2 p.m.

ADDRESSES: The meeting will be held at the U.S. Environmental Protection Agency, EPA East Bldg., Rm. 4225, 1201 Constitution Avenue, NW., Washington, DC.

Persons planning to attend the meeting of the focus group are encouraged to register with the technical contact person identified under FOR FURTHER INFORMATION CONTACT to facilitate entrance into the EPA building and ensure that all interested persons can be accommodated. Prior registration is not required to attend the focus group meeting.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Fredric C. Arnold, Economics, Exposure, and Technology Division (7406M), Office of Pollution Prevention and Toxics, Environmental Protection Agency, 1200 Pennsylvania Ave., NW., Washington, DC 20460-0001; telephone number: 202-564-8521; e-mail address: arnold.fred@epa.gov.

SUPPLEMENTARY INFORMATION:

I. General Information

A. Does this Action Apply to Me?

You may be potentially affected by this action if you manufacture chemical substances currently subject to reporting under the Inventory Update Rule (IUR) as amended on January 7, 2003, and codified at 40 CFR part 710. Persons who process chemical substances but who do not manufacture or import chemical substances are not required to comply with the requirements of 40 CFR part 710. Potentially affected entities may include, but are not limited to:

Chemical manufacturers and importers currently subject to IUR reporting, including manufacturers and importers of inorganic chemical substances (NAICS codes 325, 32411).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical contact person listed under FOR FURTHER INFORMATION CONTACT.

B. How Can I Get Copies of this Document and Other Related Information?

1. Docket. EPA has established an official public docket for this action under docket identification (ID) number OPPT-2003-0034. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

EPA is convening a focus group to receive comments on the Instructions for Reporting for the 2006 Partial Updating of the TSCA Chemical Substances Inventory. EPA is required by section 8(b) of the Toxic Substances Control Act (TSCA) to compile and update an inventory of chemical substances manufactured or imported in the United States. Every 4 years, manufacturers (including importers) of certain chemical substances on the Chemical Substances Inventory have been required to report data specified in the TSCA Section 8(a) Inventory Update Rule (IUR), 40 CFR part 710. Past updates included information on the chemical's production volume, site-limited status, and plant site information. Amendments to the IUR published in the Federal Register of January 7, 2003 (68 FR 848) (FRL-6767-4), expanded the data reported on certain chemicals to assist EPA and others in screening potential exposures and risks resulting from manufacturing, processing, and use of TSCA chemical substances. At the same time, EPA amended the IUR regulations to increase the production volume threshold which triggers reporting requirements from 10,000 pounds per year to 25,000 pounds per year and established a new higher threshold of 300,000 pounds per year above which manufacturers must report additional information on down-stream processing and use of their chemical substances. The 2003 amendments to the IUR also revoked the exemption from reporting for inorganic chemical substances, provided a partial exemption from reporting of processing and use information for chemical substances of low current interest, and continued the current exemption from reporting for polymers, microorganisms, and naturally occurring chemical substances. These changes modify requirements for information collected in calendar year 2005 and submitted in 2006 and thereafter. The meeting of the focus group may be of interest to persons currently reporting under the IUR and to manufacturers of inorganic chemical substances.

The meeting of the focus group will include a series of presentations by representatives of EPA on the Instructions for Reporting for the 2006 Partial Updating of the TSCA Chemical Inventory Database. Presentation topics will include reporting requirements, instructions for completing the reporting form, how to assert confidentiality claims, and how to submit completed reports to EPA. After each presentation, members of the focus group will be invited to comment on the clarity and completeness of the Instructions. Subsequently, other persons attending the meeting will be invited to comment on the Instructions. The purpose of the focus group is to receive input for improving the Instructions; subsequent meetings are planned for 2004 to provide training to persons who must report in 2006 under the IUR.

There is no charge for attending this meeting.

List of Subjects

Environmental protection, Chemicals, Reporting and recordkeeping requirements.

Dated: July 7, 2003.
Margaret Schneider,
Acting Director, Office of Pollution Prevention and Toxics.

[FR Doc. 03-17729 Filed 7-11-03; 8:45 am]

BILLING CODE 6560-50-S